SMALL BUSINESS ADMINISTRATION

13 CFR Parts 101, 105, 115, 117, 120, 121, 124, 125, 126, 134, 136, and 145

RIN 3245-AF64

Agency Titling Procedure Revision; Nomenclature Changes

AGENCY: U.S. Small Business Administration.

ACTION: Final rule.

SUMMARY: The U.S. Small Business Administration (SBA or Agency) is amending its regulations to change the titles of certain SBA officials mentioned in the regulations. These nomenclature changes within SBA's management will conform SBA's management titles to those commonly used across the Federal Government. No changes will be made to the responsibilities, reporting relationship, or other regulatory duties of the SBA officials whose titles are changed.

DATES: This final rule is effective August 30, 2007.

FOR FURTHER INFORMATION CONTACT: Richard L. Brechbiel, Chief Human Capital Officer, Office of Human Capital Management, Office of Management and Administration, Small Business Administration, 409 3rd Street, SW., Washington, DC 20416. Tel: (202) 205-6780.

SUPPLEMENTARY INFORMATION: SBA is amending its regulations to reflect the new titles of certain SBA officials. The new titles conform SBA's management titles with those commonly used across the Federal Government. No changes are made to the responsibilities, reporting relationship, or other regulatory duties of the SBA officials whose titles are changed.

Basically, the title “Associate Deputy Administrator” is retired and replaced with the title “Associate Administrator.” All current Associate Administrators will also receive new titles. Heads of program offices that report directly to the Office of the Administrator will receive the title “Assistant Administrator.” Heads of program offices that do not report directly to the Office of the Administrator, and report through a new Associate Administrator, will receive the title of “Director” of their respective offices.

The nomenclature changes will help clarify and add transparency to a management structure that has become unwieldy and opaque to our customers, partners, and the public. Almost all of these changes can be made administratively.

SBA has asked for Congressional assistance with changing the few statutory titles that would require legislation to conform to SBA's new title procedures. The statutory titles for SBA officials are: (1) Associate Administrator for Investment; (2) Associate Administrator for Minority Small Business (MSB) and Capital Ownership Development (COD); (3) Associate Administrator for Veterans Business Development (VBD); (4) Associate Administrator for Small Business Development Centers (SBDC); (5) Assistant Administrator for Women's Business Ownership (WBO); (6) Director of the Division of Program Certification and Eligibility; (7) Small Business and Agriculture Regulatory Enforcement Ombudsman; (8) Director of Office of Rural Affairs (ORA); and (9) Chief Counsel for Advocacy.

Savings Provision

This rule shall constitute notice that all references to the old titles cited in SBA rules affected by this Final Rule in any documents, statements, or other communications, in any form or media, and whether made before, on, or after the effective date of this rule, shall be deemed to be references to the new titles. Any actions undertaken in the name of or on behalf of these SBA officials under the old title, whether taken before, on, or after the effective date of this rule, shall be deemed to have been taken in the name of the SBA official under the new title.

Compliance With Executive Orders 13132, 12988 and 12866, the Regulatory Flexibility Act (5 U.S.C. 601-612), and the Paperwork Reduction Act (44 U.S.C. Ch. 35)

The final rule will not have substantial direct effects on the States, on the relationship between the national government and the States, or the distribution of power and responsibilities among the various levels of government. Therefore, for the purposes of Executive Order 13132, SBA determines that this final rule has no federalism implications warranting preparation of a federalism assessment.

The Office of Management and Budget (OMB) has determined that this rule does not constitute a significant regulatory action under Executive Order 12866.

This action meets applicable standards set forth in sections 3(a) and 3(b)(2) of Executive Order 12988, Civil Justice Reform, to minimize litigation, eliminate ambiguity, and reduce burden. The action does not have retroactive or preemptive effect.

SBA has determined that this final rule does not impose additional reporting or recordkeeping requirements under the Paperwork Reduction Act, 44 U.S.C., Chapter 35.

The provisions of the Administrative Procedures Act (5 U.S.C. 553), requiring notice of proposed rulemaking, the opportunity for public participation, and a delay in effective date, are inapplicable because this rule involves a rule of agency organization, procedure, or practice. 5 U.S.C. 553(b)(B). Further, no other law requires that a notice of proposed rulemaking and an opportunity for public comment be given for this final rule.

Because a notice of proposed rulemaking and opportunity for public comment are not required to be given for this rule under 5 U.S.C. or any other law, the analytical requirements of the Regulatory Flexibility Act (5 U.S.C. 601, et seq.) are not applicable. Accordingly, this rule is issued in final form.

Although there is no formal comment period, public comments on this rule are welcome on a continuing basis. Comments should be submitted to Richard L. Brechbiel, Chief Human Capital Officer, Office of Human Capital Management, Office of Management and Administration, Small Business Administration, 409 3rd Street, SW., Washington, DC 20416. Tel: (202) 205-6780.

List of Subjects

13 CFR Part 101

Administrative practice and procedure, Authority delegations (Government agencies), Organization and functions (Government agencies), Reporting and recordkeeping requirements.

13 CFR Part 105

Conflicts of interest.

13 CFR Part 115

Claims, Reporting and recordkeeping requirements, Small business, Surety bonds.

13 CFR Part 117

Civil rights, Reporting and recordkeeping requirements.

13 CFR Part 120

Community development, Loan programs—business, Reporting and recordkeeping requirements, Small business.

13 CFR Part 121

Administrative practice and procedure, Government procurement, Government property, Grant programs-business, Loan programs—business, Reporting and recordkeeping requirements, Small business.

13 CFR Part 124

Administrative practice and procedure, Government procurement, Minority businesses, Reporting and recordkeeping requirements, Small business, Technical assistance.

13 CFR Part 125

Government contracts, Government procurement, Reporting and recordkeeping requirements, Small business, Technical assistance.

13 CFR Part 126

Administrative practice and procedure, Government procurement, Penalties, Reporting and recordkeeping requirements, Small business.

13 CFR Part 134

Administrative practice and procedure, Claims, Organization and functions (Government agencies).

13 CFR Part 136

Administrative practice and procedure, Civil rights, Federal buildings and facilities.

13 CFR Part 145

Administrative practice and procedure, Grant programs, Loan programs, Reporting and recordkeeping requirements.

For the reasons set forth in the preamble, 13 CFR parts 101, 105, 115, 117, 120, 121, 124, 125, 126, 134, 136, and 145 are amended as follows:

PART 101—ADMINISTRATION

1. The authority citation for part 101 continues to read as follows:

Authority: 5 U.S.C. 552 and App. 3, secs. 2, 4(a), 6(a), and 9(a)(1)(T); 15 U.S.C. 633, 634, 687; 31 U.S.C. 6506; 44 U.S.C. 3512; E.O. 12372 (July 14, 1982), 47 FR 30959, 3 CFR, 1982 Comp., p. 197, as amended by E.O. 12416 (April 8, 1983), 48 FR 15887, 3 CFR, 1983 Comp., p. 186.

§ 101.105 [Amended]

2. Amend § 101.105 in paragraph (b) as follows:

a. Remove “Assistant Administrator for Administration” and add in its place “Director, Office of Business Operations”.

b. Remove “Associate Administrator for Minority Enterprise Development” and add in its place “Director, Office of Business Development”.

§ 101.107 [Amended]

3. Section 101.107(b) is amended by removing “Assistant Administrator for Administration” and adding in its place “Director, Office of Business Operations”.

PART 105—STANDARDS OF CONDUCT AND EMPLOYEE RESTRICTIONS AND RESPONSIBILITIES

4. The authority citation for part 105 continues to read as follows:

Authority: 5 U.S.C. 7301; 15 U.S.C. 634, 637(a)(18) and (a)(19), 642, and 645(a).

§ 105.401 [Amended]

5. In § 105.401:

a. Amend paragraph 105.401(b)(2) as follows:

i. Remove “Associate Deputy Administrator for Management and Administration” and add in its place “Associate Administrator, Office of Management and Administration”; and

ii. Remove “Assistant Administrator for Administration” and add in its place “Director, Office of Business Operations”.

b. Amend paragraph 105.401(b)(3) by removing “Director of Human Resources” and adding in its place “Chief Human Capital Officer”.

PART 115—SURETY BOND GUARANTEE

6. The authority citation for part 115 continues to read as follows:

Authority: 5 U.S.C. app 3; 15 U.S.C. 687b, 687c, 694a, 694b; 694b note, Pub. L. 106-554.

7. Amend § 115.10 by removing the definition for “AA/SG”and adding a definition in alphabetical order for “D/SG” to read as follows:

§ 115.10 Definitions

* * * * *

D/SG means SBA's Director, Office of Surety Guarantees.

* * * * *

§ 115.11 [Amended]

8. Section 115.11 is amended by removing “AA/SG” and adding in its place “D/SG”.

§ 115.18 [Amended]

9. Section 115.18(d) is amended by removing “AA/SG” and adding in its place “D/SG”.

§ 115.30 [Amended]

10. Section 115.30(c) is amended by removing “AA/SG” each time it appears and adding in its place “D/SG”.

§ 115.60 [Amended]

11. Section 115.60(b) is amended by removing “AA/SG” and adding in its place “D/SG”.

§ 115.64 [Amended]

12. Section 115.64 is amended by removing “AA/SG” and adding in its place “D/SG”.

PART 117—NONDISCRIMINATION IN FEDERALLY ASSISTED PROGRAMS OR ACTIVITIES OF SBA—EFFECTUATION OF THE AGE DISCRIMINATION ACT OF 1975, AS AMENDED

13. The authority citation for part 117 continues to read as follows:

Authority: Age Discrimination Act of 1975, 42 U.S.C. 6101, et seq.

§ 117.11 [Amended]

14. Sections 117.11(b) and 117.11(d)(4) are amended by removing “Director, Office of Equal Employment Opportunity and Compliance and Chief, Office of Civil Rights Compliance” and adding in its place “Assistant Administrator, Office of Equal Employment Opportunity & Civil Rights Compliance”.

§ 117.15 [Amended]

15. Section 117.15(a)(3) is amended by removing “Chief, Office of Civil Rights Compliance through the Director, Office of Equal Employment Opportunity and Compliance,” and adding in its place “Assistant Administrator, Office of Equal Employment Opportunity & Civil Rights Compliance”.

PART 120—BUSINESS LOANS

16. The authority citation for part 120 continues to read as follows:

Authority: 15 U.S.C. 634(b)(6), 636(a) and (h), 696(3), and 697(a)(2).

§ 120.193 [Amended]

17. Section 120.193 is amended by removing “Associate Administrator for Financial Assistance (AA/FA)” and adding in its place “Director, Office of Financial Assistance (D/FA)”.

§ 120.211 [Amended]

18. Amend section 120.211 as follows:

a. In paragraphs (a) and (c) by removing “AA/FA” and adding in its place “D/FA”; and

b. In paragraph (b) by removing “Associate Administrator for Minority Enterprise Development” and adding in its place “Director, Office of Business Development”.

§ 120.376 [Amended]

19. Section 120.376 is amended in paragraph (a) by removing “Associate Administrator for Minority Enterprise Development (“MED”)” and adding in its place “Director, Office of Business Development”.

§ 120.424 [Amended]

20. Section 120.424(a) is amended by removing “Associate Administrator for Financial Assistance (AA/FA)” and adding in its place “D/FA”.

§ 120.434 [Amended]

21. Section 120.434(b) is amended by removing “AA/FA” and adding in its place “D/FA”.

§ 120.441 [Amended]

22. Section 120.441(b) is amended by removing “AA/FA” and adding in its place “D/FA”.

§ 120.442 [Amended]

23. Section 120.442 is amended by removing “AA/FA” and adding in its place “D/FA”.

§ 120.451 [Amended]

24. Section 120.451 is amended in paragraphs (a), (c), (e), and (f) by removing “AA/FA” and adding in its place “D/FA”.

§ 120.455 [Amended]

25. Section 120.455 is amended by removing “AA/FA” each time it appears and adding in its place “D/FA”.

§ 120.553 [Amended]

26. Section 120.553 is amended by removing “AA/FA” and adding in its place “D/FA”.

§ 120.630 [Amended]

27. Section 120.630 is amended in paragraph (a) introductory text and paragraph (a)(4) by removing “AA/FA” each time it appears, and adding in its place “D/FA”.

§ 120.631 [Amended]

28. Section 120.631 is amended in paragraph (a) introductory text, and paragraph (b), and (c) by removing “AA/FA” each time it appears, and adding in its place “D/FA”.

§ 120.660 [Amended]

29. Section 120.660 is amended in paragraph (a) introductory text, paragraph (b) introductory text, and paragraph (c) by removing “AA/FA” each time it appears and adding in its place “D/FA”.

§ 120.702 [Amended]

30. Section 120.702(b) is amended by removing “AA/FA” and adding in its place “D/FA”.

§ 120.710 [Amended]

31. Amend § 120.710 as follows:

a. In paragraph (c) by removing “SBA's Associate Administrator for Financial Assistance (“AA/FA”) and adding in its place “Director, Office of Financial Assistance (“D/FA”); and

b. In paragraphs (c) and (d) and paragraph (e) introductory text, by removing “AA/FA” each time it appears and adding in its place “D/FA”.

§ 120.716 [Amended]

32. Section 120.716 is amended in paragraph (a) introductory text, paragraph (b) introductory text, and paragraph (d) by removing “AA/FA” and adding in its place “D/FA”.

§ 120.810 [Amended]

33. Section 120.810(d) is amended by removing “AA/FA” and adding in its place “D/FA”.

§ 120.812 [Amended]

34. Section 120.812(c) is amended by removing “AA/FA” and adding in its place “D/FA”.

§ 120.837 [Amended]

35. Section 120.837(a) is amended by removing “AA/FA” each time it appears and adding in its place “D/FA”.

§ 120.840 [Amended]

36. Section 120.840(b) is amended by removing “AA/FA” and adding in its place “D/FA”.

§ 120.845 [Amended]

37. Section 120.845(b) is amended by removing “AA/FA” and adding in its place “D/FA”.

§ 120.847 [Amended]

38. Amend § 120.847 as follows:

a. In paragraph (h)(2) in the second sentence by removing “AA/FA” and adding in its place “D/FA”;

b. In paragraph (h)(2) in the third sentence by removing “AA/FA's” and adding in its place “D/FA's”; and

c. In paragraph (i) by removing “AA/FA's” and adding in its place “D/FA's”.

§ 120.854 [Amended]

39. Section 120.854 is amended in paragraph (a) introductory text, paragraph (b) introductory text, and paragraph (c) introductory text, by removing “AA/FA” and adding in its place “D/FA”.

§ 120.855 [Amended]

40. Section 120.855 is amended in paragraph (a) introductory text, and paragraphs (b), (c), and (d) by removing “AA/FA” and adding in its place “D/FA”.

§ 120.856 [Amended]

41. Section 120.856 is amended in paragraphs (a)(1),(2); (b)(1),(5); (c)(1),(2); (d); and (e)(2),(3) by removing “AA/FA” each time it appears and adding in its place “D/FA”.

§ 120.956 [Amended]

42. Section 120.956 is amended by removing “AA/FA” each time it appears and adding in its place “D/FA”.

PART 121—SMALL BUSINESS SIZE REGULATIONS

43. The authority citation for part 121 continues to read as follows:

Authority: 15 U.S.C. 632, 634(b)(6), 636(b), 637(a), 644, and 662(5); and Pub. L. 105-135, sec. 401 et seq., 111 Stat. 2592.

§ 121.102 [Amended]

44. Section 121.102(d) is amended by removing “Assistant Administrator for Size Standards” and adding in its place “Division Chief, Office of Size Standards”.

§ 121.903 [Amended]

45. Section 121.903 is amended in paragraphs (a)(2) introductory text, and paragraph (4) by removing “Assistant Administrator for Size Standards” and adding in its place “Division Chief, Office of Size Standards”.

§ 121.1001 [Amended]

46. Amend § 121.1001 as follows:

a. In paragraphs (a)(1)(iii), (a)(3)(iv), (a)(5)(iii), (a)(7)(iii) and (a)(8)(iv) and paragraphs (b)(3)(ii), (b)(4)(i), and (b)(9), by removing “Associate Administrator for Government Contracting” and adding in its place “Director, Office of Government Contracting”;

b. In paragraph (a)(4)(iii), by removing “Assistant Administrator for Technology” and adding “Division Chief, Office of Technology”;

c. In paragraphs (a)(6)(iv) and (b)(8)(ii), remove “Associate Administrator for the HUBZone program” and add “Director, Office of HUBZone”; and

d. In paragraph (a)(2)(iii), remove “Associate Administrator for 8(a) Business Development” and add in its place “Director, Office of Business Development”.

e. In paragraphs (a)(5)(iii), (b)(2)(i)(B), (b)(2)(ii)(C), and (b)(7)(ii) remove “Associate Administrator for 8(a) BD” and add in its place “Director, Office of Business Development”.

f. In paragraph (a)(7)(iii) remove “Associate Administrator for MED” and add in its place “Director, Office of Business Development”.

§ 121.1008 [Amended]

47. Amend § 121.1008 as follows:

a. In paragraph (a) by removing “AA/HUB” and adding “D/HUB”;

b. In paragraph (a) by removing “Assistant Administrator for Technology” and adding “Division Chief, Office of Technology”; and

c. In paragraph (a) by removing “AA/8(a) BD” and adding in its place “Director, Office of Business Development”.

§ 121.1103 [Amended]

48. Section 121.1103 is amended in paragraph (a) by removing “Associate Administrator for 8(a) Business Development” and adding in its place “Director, Office of Business Development”.

§ 121.1203 [Amended]

49. Section 121.1203 is amended by removing “Associate Administrator for Government Contracting” and adding in its place “Director, Office of Government Contracting”.

§ 121.1204 [Amended]

50. Section 121.1204 is amended in paragraphs (a)(2), (5), (6), (7)(i); and (b)(2), (3) by removing “SBA Associate Administrator for Government Contracting” each time it appears, and adding in its place “Director, Office of Government Contracting”.

PART 124—8(a) BUSINESS DEVELOPMENT/SMALL DISADVANTAGED BUSINESS STATUS DETERMINATIONS

51. The authority citation for part 124 is revised to read as follows:

Authority: 15 U.S.C. 634(b)(6), 636(j), 637(a), 637(d) and Pub. L. 99-661, sec. 1207, Pub. L. 100-656, Pub. L. 101-37, Pub. L. 101-574, and 42 U.S.C. 9815.

§ 124.103 [Amended]

52. Section 124.103 is amended in paragraph (b)(3) by removing “Associate Administrator for 8(a)(BD) (AA/8(a)BD)” and adding in its place “Director, Office of Business Development”.

§ 124.105 [Amended]

53. Section 124.105 is amended in paragraph (i) by removing “AA/8(a)BD” each time it appears and adding in its place “Director, Office of Business Development”.

§ 124.106 [Amended]

54. Section 124.106 is amended in paragraphs (e)(2) and (3) by removing “AA/8(a)BD” each time it appears, and adding in its place “Director, Office of Business Development”.

§ 124.108 [Amended]

55. Section 124.108 is amended in paragraphs (a)(1) and (2) by removing “AA/8(a)BD” each time it appears and adding in its place “Director, Office of Business Development”.

§ 124.109 [Amended]

56. Section 124.109 is amended in paragraph (b) by removing “AA/8(a)BD” and adding in its place “Director, Office of Business Development”.

§ 124.204 [Amended]

57. Section 124.204 is amended in paragraphs (a), (e), and (f) by removing “AA/8(a)BD” each time it appears, and adding in its place “Director, Office of Business Development”.

§ 124.206 [Amended]

58. Section 124.206 is amended in paragraphs (b) and (d) by removing “AA/8(a)BD” each time it appears, and adding in its place “Director, Office of Business Development”.

§ 124.304 [Amended]

59. Section 124.304 is amended in paragraphs (c), (d), and (e) by removing “AA/8(a)BD” and adding in its place “Director, Office of Business Development”.

§ 124.305 [Amended]

60. Section 124.305 is amended in paragraphs (a), (d), and (e) by removing “AA/8(a)BD” each time it appears, and adding in its place “Director, Office of Business Development”.

§ 124.503 [Amended]

61. Section 124.503 is amended in paragraph (a)(5) by removing “AA/8(a)BD” each time it appears, and adding in its place “Director, Office of Business Development”.

§ 124.504 [Amended]

62. Section 124.504 is amended in paragraph (a) by removing “AA/8(a)BD” and adding in its place “Director, Office of Business Development”.

§ 124.506 [Amended]

63. Section 124.506 is amended in paragraph (c) introductory text, and paragraphs (c)(2), (c)(3) and (d) by removing “AA/8(a)BD” and adding in its place “Director, Office of Business Development”.

§ 124.509 [Amended]

64. Section 124.509 is amended in paragraph (e)(1) by removing “AA/8(a)BD” and adding in its place “Director, Office of Business Development”.

§ 124.517 [Amended]

65. Section 124.517 is amended in paragraph (d)(1) by removing “AA/8(a)BD” and adding in its place “Director, Office of Business Development”.

§ 124.520 [Amended]

66. Section 124.520 is amended in paragraphs (b)(2) and (e)(2) by removing “AA/8(a)BD” and adding in its place “Director, Office of Business Development”.

§ 124.1008 [Amended]

67. Amend § 124.1008 as follows:

a. In paragraphs (a) and (f) by removing “Assistant Administrator for Small Disadvantaged Business Certification and Eligibility (AA/SDBCE)” and adding in its place “Division Chief, Small Disadvantaged Business Certification and Eligibility (DC/SDBCE)”.

b. In paragraphs (f)(1), (2), (3)(i-ii) and (4) by removing “AA/SDBCE” each time it appears and adding in its place “DC/SDBCE”.

§ 124.1010 [Amended]

68. Section 124.1010(b) introductory text is amended by removing “AA/SDBCE” and adding in its place “DC/SDBCE”.

§ 124.1016 [Amended]

69. Section 124.1016(b) is amended by removing “AA/SDBCE” and adding in its place “DC/SDBCE”.

§ 124.1018 [Amended]

70. Section 124.1018(e) is amended by removing “SBA's Deputy Associate Deputy Administrator for Government Contracting and Minority Enterprise Development (DADA/GC&MED)” and adding in its place “Associate Administrator for Government Contracting and Business Development (AA/GC&BD)”.

§ 124.1020 [Amended]

71. Section 124.1020 is amended in paragraphs (b)(3), (c)(2), and (d)(1) by removing “AA/SDBCE” and adding in its place “DC/SDBCE”.

§ 124.1022 [Amended]

72. Section 124.1022 is amended in paragraph (a), paragraph (b) introductory text, paragraph (b)(1), and paragraph (c) introductory text, by removing “AA/SDBCE” each time it appears, and adding in its place “DC/SDBCE”.

§ 124.1023 [Amended]

73. Amend § 124.1023 as follows:

a. In paragraph (a) by removing “AA/SDBCE” and adding in its place “DC/SDBCE”; and

b. In paragraphs (h)(1) and (2) by removing “DADA/GC&MED” each time it appears, and adding in its place “AA/GC&BD”.

§ 124.1024 [Amended]

74. Amend § 124.1024 as follows:

a. Paragraphs (a), (b), (g), and (i) by removing “DADA/GC&MED” and adding in its place “AA/GC&BD”; and

b. Paragraph (d) by removing “AA/SDBCE” each time it appears, and adding in its place “DC/SDBCE”.

PART 125—GOVERNMENT CONTRACTING PROGRAMS

75. The authority citation for part 125 continues to read as follows:

Authority: 15 U.S.C. 632(p), (q); 634(b)(6); 637; 644 and 657(f).

§ 125.5 [Amended]

76. Sections 125.5(i)(3) and (j)(2) are amended by removing “Associate Administrator for Government Contracting (AA/GC)” each time it appears, and adding in its place “Director, Office of Government Contracting (D/GC)”.

§ 125.6 [Amended]

77. Section 125.6(d)(1) is amended by removing “Associate Administrator of the Office of Government Contracting” and adding in its place “Director, Office of Government Contracting”.

§ 125.25 [Amended]

78. Sections 125.25(c) and (e) are amended by removing “Associate Administrator for Government Contracting” and adding in its place “Director, Office of Government Contracting”.

§ 125.26 [Amended]

79. Section 125.26(a) is amended by removing “Associate Administrator for Government Contracting” and adding in its place “Director, Office of Government Contracting”.

PART 126—HUBZONE PROGRAM

80. The authority citation for part 126 continues to read as follows:

Authority: 15 U.S.C. 632(a), 632(j), 632(p) and 657a.

81. Amend § 126.103 as follows:

a. By removing the definition of “AA/BD” and adding a new definition to read as follows:

b. By removing the definition of “AA/HUB” and adding a new definition to read as follows: and

c. By removing the definition of “ADA/GC&8(a)BD” and adding a new definition to read as follows:

§ 126.103 What definitions are important in the HUBZone program.

* * * * *

“D/BD means SBA's Director, Office of Business Development”;

* * * * *

“D/HUB means SBA's Director Office of HUBZone”;

* * * * *

“AA/GC&BD means Associate Administrator, Office of Government Contracting & Business Development”.

* * * * *

§ 126.303 [Amended]

82. Section 126.303 is amended by removing “AA/HUB” and adding in its place “D/HUB”.

§ 126.306 [Amended]

83. Section 126.306(a) is amended by removing “AA/HUB” each time that it appears and adding in its place “D/HUB”.

§ 126.307 [Amended]

84. Section 126.307 is amended by removing “AA/HUB” and adding in its place “D/HUB”.

§ 126.308 [Amended]

85. Section 126.308 is amended by removing “AA/HUB” and adding in its place “D/HUB”.

§ 126.400 [Amended]

86. Section 126.400 is amended by removing “AA/HUB” and adding in its place “D/HUB”.

§ 126.403 [Amended]

87. Section 126.403(a) is amended by removing “AA/HUB” and adding in its place “D/HUB”.

§ 126.501 [Amended]

88. Section 126.501 is amended by removing “AA/HUB” and adding in its place “D/HUB”.

§ 126.503 [Amended]

89. Section 126.503 is amended in paragraphs (a), (b), and (c) by removing “AA/HUB” each time it appears and adding in its place “D/HUB”.

§ 126.606 [Amended]

90. Amend § 126.606 as follows:

a. By removing “AA/BD” and adding in its place “D/BD”; and

b. By removing “AA/HUB” and adding in its place “D/HUB”.

§ 126.610 [Amended]

91. Section 126.610(b) is amended by removing “AA/HUB” and adding in its place “D/HUB”.

§ 126.801 [Amended]

92. Section 126.801 is amended in paragraph (c)(2) and paragraph (e) by removing “AA/HUB” and adding in its place “D/HUB”.

§ 126.802 [Amended]

93. Section 126.802 is amended by removing “AA/HUB” and adding in its place “D/HUB”.

§ 126.803 [Amended]

94. Section 126.803(d) is amended by removing “ADA/GC&BD” and adding in its place “AA/GC&BD”.

PART 134—RULES OF PROCEDURE GOVERNING CASES BEFORE THE OFFICE OF HEARINGS AND APPEALS

95. The authority citation for part 134 continues to read as follows:

Authority: 5 U.S.C. 504; 15 U.S.C. 632, 634(b)(6), 637(a), 648(l), 656(i), and 687(c); E.O. 12549, 51 FR 6370, 3 CFR 1986 Comp., p. 189.

§ 134.302 [Amended]

96. Section 134.302 is amended in paragraph (b) by removing “AA/8(a)BD” and adding in its place “Director, Office of Business Development”.

§ 134.403 [Amended]

97. Section 134.403 is amended in paragraphs (a) and (b) by removing “AA/8(a)BD” and adding in its place “Director, Office of Business Development”.

§ 134.406 [Amended]

98. Section 134.406 is amended in paragraph (e) by removing “AA/8(a)BD” each time it appears, and adding in its place “Director, Office of Business Development”.

§ 134.501 [Amended]

99. Amend § 134.501 as follows:

a. By removing “Associate Administrator for Government Contracting (AA/GC)”; and adding in its place “Director, Office of Government Contracting (D/GC)”.

b. By removing “AA/GC” and adding in its place “D/GC”.

§ 134.505 [Amended]

100. Sections 134.505(a)(2) and (b)(1) are amended by removing “AA/GC” and adding in its place “D/GC”.

§ 134.507 [Amended]

101. Section 134.507 is amended by removing “AA/GC” each time it appears, and adding in its place “D/GC”.

§ 134.508 [Amended]

102. Section 134.508 is amended by removing “AA/GC's” and adding in its place “D/GC's”.

§ 134.515 [Amended]

103. Section 134.515(c) is amended by removing “AA/GC” and adding in its place “D/GC”.

PART 136—ENFORCEMENT OF NONDISCRIMINATION ON THE BASIS OF HANDICAP IN PROGRAMS OR ACTIVITIES CONDUCTED BY THE SMALL BUSINESS ADMINISTRATION

104. The authority citation for part 136 continues to read as follows:

Authority: 29 U.S.C. 794.

§ 136.170 [Amended]

105. Amend § 136.170 as follows:

a. In paragraph (c)(2) by removing “Chief, Office of Civil Rights Compliance (OCRC)” and adding in its place “Assistant Administrator, Office of Equal Employment Opportunity & Civil Rights Compliance (AA/EEOCCR)”;

b. In paragraphs (c)(3), (c)(4); paragraphs (e)(1-3) introductory text; paragraphs (f)(1-3); paragraph (g) introductory text; paragraphs (g)(4); (h)(1), (h)(3), (h)(4)(i) introductory text; and paragraphs (i)(1-2) and; (j)(4) by removing “Chief, OCRC” each time it appears and adding in its place “AA/EEOCCR”; and

c. In paragraphs (h)(1, 3 and 4); (i)(1); and (j)(1-3), by removing “Director, OEEOC” each time it appears, and adding in its place “AA/EEOCCR”.

PART 145—GOVERNMENTWIDE DEBARMENT AND SUSPENSION (NONPROCUREMENT)

106. The authority citation for part 145 continues to read as follows:

Authority: 5 U.S.C. 301 et seq.; 15 U.S.C. 631 et seq.; Sec. 2455, Pub. L. 103-355, 108 Stat. 3327 (31 U.S.C. 6101 note); E.O. 11738, 3 CFR 1973 Comp., p. 799; E.O. 12549, 3 CFR, 1986 Comp. p. 189; E.O. 12689, 3 CFR, 1989 Comp., p. 235.

§ 145.935 [Amended]

107. In § 145.935:

a. Paragraph (b) is amended by removing “Assistant Administrator for Lender Oversight” and adding in its place “Director, Office of Credit Risk Management”.

b. Paragraph (b) is amended by removing “Assistant Administrator for Administration” and adding in its place “Director, Office of Business Operations”.

§ 145.1010 [Amended]

108. In § 145.1010:

a. Paragraph (b) is amended by removing “Assistant Administrator for Lender Oversight” and adding in its place “Director, Office of Credit Risk Management”.

b. Paragraph (b) is amended by removing “Assistant Administrator for Administration” and adding in its place “Director, Office of Business Operations”.

Dated: August 23, 2007.
Steven C. Preston,
Administrator.

[FR Doc. E7-17130 Filed 8-29-07; 8:45 am]

BILLING CODE 8025-01-P